DEPARTMENT OF COMMERCE

International Trade Administration

[A-560-828]

Certain Uncoated Paper From Indonesia: Preliminary Results of Antidumping Duty Administrative Review; 2018-2019

AGENCY: Enforcement and Compliance, International Trade Administration, Department of Commerce.

SUMMARY: The Department of Commerce (Commerce) preliminarily determines that the sole producer/exporter subject to this administrative review made sales of subject merchandise below normal value. We invite interested parties to comment on these preliminary results.

DATES: Applicable November 8, 2019.

FOR FURTHER INFORMATION CONTACT: Jacob Garten, AD/CVD Operations, Office II, Enforcement and Compliance, International Trade Administration, U.S. Department of Commerce, 1401 Constitution Avenue NW, Washington, DC 20230; telephone: (202) 482-3342.

SUPPLEMENTARY INFORMATION:

Background

On March 5, 2019, Commerce published a notice of opportunity to request an administrative review of the antidumping duty (AD) order on certain uncoated paper (uncoated paper) from Indonesia covering the period March 1, 2018 through February 28, 2019.¹ Commerce received a timely request from the petitioners,² for an administrative review of the antidumping duty order with respect to APRIL Fine Paper Macao Offshore Limited, APRIL Fine Paper Trading Pte. Ltd., APRIL International Enterprise Pte. Ltd., A P Fine Paper Trading (Hong Kong) Limited, PT Anugerah Kertas Utama, PT Riau Andalan Kertas, PT Asia Pacific Rayon, and PT Sateri Viscose International (collectively, APRIL).³ Commerce also received a timely request from APRIL for an administrative review.⁴ On May 29, 2019, Commerce published a notice of initiation of an administrative review of the AD order on uncoated paper from Indonesia with regard to the eight APRIL companies.⁵

¹ See Antidumping or Countervailing Duty Order, Finding, or Suspended Investigation; Opportunity To Request Administrative Review, 84 FR 7877 (March 5, 2019).

² Domtar Corporation, P.H. Glatfelter Company, the Packaging Corporation of America (PCA), and the United Steel, Paper and Forestry, Rubber, Manufacturing, Energy, Allied Industrial and Service Workers International Union, AFL-CIO, CLC (the USW) (collectively, the petitioners).

³ See Petitioners' Letter, “Administrative Review of the Countervailing Duty Order on Uncoated Paper from Indonesia (POR 1/1/2018-12/31/2018)—Petitioners' Request for an Administrative Review,” dated April 1, 2019.

⁴ See APRIL's Letter, “Uncoated Paper from Indonesia,” dated April 1, 2019 (filed on behalf of PT Anugerah Kertas Utama (AKU), PT Riau Andalan Kertas (RAK), and APRIL Fine Paper Macao Offshore Limited (AFPM)).

⁵ See Initiation of Antidumping and Countervailing Duty Administrative Reviews, 84 FR 24743 (May 29, 2019).

On May 3, 2019, APRIL withdrew its review request and notified Commerce that it would not participate in this administrative review.⁶ The petitioners, however, have not withdrawn their request for administrative review of APRIL.

⁶ See APRIL's Letter, “Uncoated Paper from Indonesia,” dated May 3, 2019 (withdrawing its review request and stating “APRIL will not be participating in the above administrative review.”).

Scope of the Order

The product covered by the order is certain uncoated paper from Indonesia. The subject merchandise is currently classifiable under Harmonized Tariff Schedule of the United States (HTSUS) categories 4802.56.1000, 4802.56.2000, 4802.56.3000, 4802.56.4000, 4802.56.6000, 4802.56.7020, 4802.56.7040, 4802.57.1000, 4802.57.2000, 4802.57.3000, and 4802.57.4000. Some imports of subject merchandise may also be classified under 4802.62.1000, 4802.62.2000, 4802.62.3000, 4802.62.5000, 4802.62.6020, 4802.62.6040, 4802.69.1000, 4802.69.2000, 4802.69.3000, 4811.90.8050 and 4811.90.9080. While HTSUS subheadings are provided for convenience and customs purposes, the written description of the scope of the order is dispositive.⁷

⁷ For a complete description of the scope of the order, see Memorandum, “Decision Memorandum for the Preliminary Results of the 2018-2018 Administrative Review of the Antidumping Duty Order on Certain Uncoated Paper from Indonesia” (Preliminary Decision Memorandum), issued concurrently with and hereby adopted by this notice.

Methodology

Commerce is conducting this review in accordance with sections 751(a)(1)(B) and (2) of the Tariff Act of 1930, as amended (the Act). Pursuant to section 776(a) and (b) of the Act, Commerce has preliminarily relied upon facts otherwise available with adverse inferences (AFA) for APRIL, because this respondent notified Commerce that it would not participate in the review.

For a complete explanation of the methodology and analysis underlying the preliminary application of AFA, see the accompanying Preliminary Decision Memorandum. The Preliminary Decision Memorandum is a public document and is on file electronically via Enforcement and Compliance's Antidumping and Countervailing Duty Centralized Electronic Service System (ACCESS). ACCESS is available to registered users at https://access.trade.gov, and to all parties in the Central Records Unit, room B8024 of the main Commerce building. In addition, a complete version of the Preliminary Decision Memorandum can be found at http://enforcement.trade.gov/frn/. The signed Preliminary Decision Memorandum and the electronic version of the Preliminary Decision Memorandum are identical in content. A list of the topics discussed in the Preliminary Decision Memorandum is attached as an Appendix to this notice.

Preliminary Results of the Review

As a result of this review, we preliminarily determine that the weighted-average dumping margin exists for APRIL for the period March 1, 2018 through February 28, 2019, as follows:

Exporter/producer | Margin (percent)
APRIL Fine Paper Macao Offshore Limited, APRIL Fine Paper Trading Pte. Ltd., APRIL International Enterprise Pte. Ltd., A P Fine Paper Trading (Hong Kong) Limited, PT Anugerah Kertas Utama, PT Riau Andalan Kertas, PT Asia Pacific Rayon, and PT Sateri Viscose International (collectively, APRIL) | 66.82

Disclosure

Normally, Commerce discloses to interested parties the calculations performed in connection with the preliminary results of a review within ten days of its public announcement, or if there is no public announcement, within five days of the date of publication of the notice of preliminary results in the Federal Register, in accordance with 19 CFR 351.224(b). However, there are no calculations to disclose here because, in accordance with section 776 of the Act, Commerce preliminarily applied AFA to APRIL, the sole company subject to this review, and based the AFA rate on the highest petition rate in this proceeding.⁸

⁸ See Certain Uncoated Paper from Australia, Brazil, the People's Republic of China, Indonesia, and Portugal: Initiation of Less-Than-Fair-Value Investigations, 80 FR 8608 (February 18, 2015), and accompanying Antidumping Duty Investigation Initiation Checklist: Uncoated Paper from Indonesia at 12.

Public Comment

Interested parties may submit case briefs to Commerce no later than 30 days after the date of publication of this notice.⁹ Rebuttal briefs, limited to issues raised in the case briefs, may be filed no later than five days after the time limit for filing case briefs.¹⁰ Parties who submit case briefs or rebuttal briefs in this proceeding are encouraged to submit with each argument: (1) A statement of the issue; (2) a brief summary of the argument; and (3) a table of authorities.¹¹ Case and rebuttal briefs should be filed using ACCESS.¹²

⁹ See 19 CFR 351.309(c).

¹⁰ See 19 CFR 351.309(d).

¹¹ See 19 CFR 351.309(c)(2) and (d)(2).

¹² See 19 CFR 351.303.

Pursuant to 19 CFR 351.310(c), interested parties who wish to request a hearing must submit a written request to the Assistant Secretary for Enforcement and Compliance, filed electronically via ACCESS. An electronically-filed document must be received successfully in its entirety by ACCESS by 5:00 p.m. Eastern Time within 30 days after the date of publication of this notice.¹³ Hearing requests should contain: (1) The party's name, address, and telephone number; (2) the number of participants; and (3) a list of issues to be discussed. Issues raised in the hearing will be limited to issues raised in the briefs. If a request for a hearing is made, parties will be notified of the time and date for the hearing to be held at the U.S. Department of Commerce, 1401 Constitution Avenue NW, Washington, DC 20230.¹⁴

¹³ See 19 CFR 351.310(c).

¹⁴ Id.

Commerce intends to issue the final results of this administrative review, including the results of its analysis raised in any written briefs, no later than 120 days after the publication date of this notice, pursuant to section 751(a)(3)(A) of the Act.

Assessment Rates

Upon issuance of the final results, Commerce will determine, and CBP shall assess, antidumping duties on all appropriate entries covered by this review.¹⁵ The final results of this review shall be the basis for the assessment of antidumping duties on entries of merchandise covered by the final results of this review and for future deposits of estimated duties, where applicable.¹⁶ We intend to issue assessment instructions to CBP 15 days after the date of publication of the final results of this review.

¹⁵ See 19 CFR 351.212(b)(1).

¹⁶ See section 751(a)(2)(C) of the Act.

Cash Deposit Requirements

The following deposit requirements will be effective for all shipments of the subject merchandise entered, or withdrawn from warehouse, for consumption on or after the publication date of the final results of this administrative review, as provided by section 751(a)(2)(C) of the Act: (1) The cash deposit rate for APRIL will be that established in the final results of this review; (2) for previously investigated companies not participating in this review, the cash deposit will continue to be the company-specific rate published for the most recently completed segment; (3) if the exporter is not a firm covered in this review, or the original less-than-fair-value (LTFV) investigation, but the manufacturer is, the cash deposit rate will be the rate established for the most recent segment for the manufacturer of the merchandise; and (4) the cash deposit rate for all other manufacturers or exporters will continue to be 2.10 percent, the all-others rate made effective by the LTFV investigation.¹⁷ These deposit requirements, when imposed, shall remain in effect until further notice.

¹⁷ See Order, 81 FR at 11174.

Notification to Importers

This notice also serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties.

Notification Regarding Administrative Protective Orders

This notice also serves as a reminder to parties subject to the administrative protective order (APO) of their responsibility concerning the disposition of proprietary information disclosed under an APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these preliminary results of review in accordance with sections 751(a)(1) and 777(i)(1) of the Act, and 19 CFR 351.221(b)(4).

Dated: November 1, 2019.
Jeffrey I. Kessler,
Assistant Secretary for Enforcement and Compliance.

Appendix

List of Topics Discussed in the Preliminary Decision Memorandum

I. Summary

II. Background

III. Scope of the Order

IV. Application of Facts Available and Adverse Inferences

V. Recommendation

[FR Doc. 2019-24393 Filed 11-7-19; 8:45 am]

BILLING CODE 3510-DS-P